DEPARTMENT OF AGRICULTURE

Commodity Credit Corporation

Farm Service Agency

Information Collection: Report of Acreage, Noninsured Crop Disaster Assistance Program

AGENCY: Commodity Credit Corporation and Farm Service Agency, USDA.

ACTION: Notice; request for comments.

SUMMARY: In accordance with the Paperwork Reduction Act of 1995, the Commodity Credit Corporation (CCC) and the Farm Service Agency (FSA) are seeking comments from all interested individuals and organizations on an extension with revision of a currently approved information collection associated with the report of acreage for the Noninsured Crop Disaster Assistance Program (NAP). This information collection is needed to administer the program.

DATES: Comments on this notice must be received on or before May 2, 2008 to be assured consideration. Comments received after that date will be considered to the extent practicable.

ADDRESSES: We invite you to submit comments on this Notice. In your comments, include volume, date and page of this issue of the Federal Register. You may submit comments by any of the following methods:

Mail: USDA Farm Service Agency, ATTN: Jantrice Chappell, Agriculture Program Specialist, CPS, Farm Programs, Production Emergencies and Compliance Division, 1400 Independence Avenue, SW., STOP 0517, Washington, DC 20250-0523.

E-mail: Send comment to: jantrice.chappell@wdc.usda.gov.

Fax: (202) 720-4941.

Comments also should be sent to the Desk Officer for Agriculture, Office of Information and Regulatory Affairs, Office of Management and Budget, Washington, DC 20503.

FOR FURTHER INFORMATION CONTACT: Jantrice Chappell, Agriculture Program Specialist, (202) 720-3637 and jantrice.chappell@wdc.usda.gov.

SUPPLEMENTARY INFORMATION:

Description of Information Collection

Title: Report of Acreage for the Noninsured Crop Disaster Assistance Program (NAP).

OMB Control Number: 0560-0004.

Expiration Date: 09/30/2008.

Type of Request: Extension with revision.

Abstract: NAP provides financial assistance to producers who have suffered a production loss of an eligible crop or were prevented from planting an eligible crop as a result of natural disasters. Eligible crops are commercial crops or other agricultural commodities for which catastrophic risk protection under 7 U.S.C. 1508(b) is not available and that are produced for food or fiber and includes floricultural, ornamental nursery, and Christmas tree crops, turfgrass sod, seed crops, aquaculture (including species, type, variety, etc.), practices, intended uses, planting patterns, and predominant species of forage vegetation (including intended method of harvest, i.e. mechanically harvested or grazed); dates crops were planted or planting was completed (including age of perennial crops); number of acres of each planting of the eligible crop in which the producer has a share in the administrative county; number of acres intended but prevented from being planted; zero acres planted when the crop for which a NAP application for coverage was filed, is not planted; and shares and identities of all producers sharing in the crop at the time a NAP application for coverage was filed. Finally, the information collected includes the FSA farm serial number or location of commodities not necessarily associated with an FSA farm serial number such as colonies of bees for honey production (including the number of colonies belonging to the unit); ponds and waterbeds for production of aquaculture; ornamental nursery (including the size and origin, i.e. container or field grown, of plants belonging to the unit); mushroom facilities; turfgrass sod (including the average number of square yards per acre and all unharvested acres); and trees for maple sap production (including number of eligible trees, average size and age of producing trees, and total number of taps placed or anticipated for the tapping season). NAP operates under the regulations at 7 CFR part 1437.

The revision is to correct the average time to complete the form that increases the total number of burden hours in this information collection.

Respondents: Producers.

Estimated of Respondent Burden: Public reporting burden for this collection of information is estimated to average 45 minutes (.75 hour) per response. The average travel time, which is included in the total burden, is estimated to be 1 hour per respondent.

Estimated Annual Number of Respondents: 291,500.

Estimated Annual Number of Forms per person: 1.5.

Estimate of Total Annual Burden: 619,438.

Comments Are Invited on:

(1) Whether the collection of information is necessary for the proper performance of the functions of the agency, including whether the information will have practical utility;

(2) The accuracy of the agency's estimate of burden including the validity of the methodology and assumptions used;

(3) Ways to enhance the quality, utility and clarity of the information to be collected; and

(4) Ways to minimize the burden of the collection of information on those who are to respond, including through the use of appropriate automated, electronic, mechanical, or other technological collection techniques or other forms of information technology.

All responses received in response to this notice, including names and addresses, when provided, will be a matter of public record. Comments will be summarized and included in the submission for Office of Management and Budget approval.

Signed in Washington, DC, on February 26, 2008.
Teresa C. Lasseter,
Administrator, Farm Service Agency.

[FR Doc. E8-4015 Filed 2-29-08; 8:45 am]

BILLING CODE 3410-05-P